DEPARTMENT OF THE INTERIOR

Bureau of Land Management

[(NM-920-1310-06); (OKNM 112970)]

Proposed Reinstatement of Terminated Oil and Gas Lease OKNM 112970

AGENCY: Bureau of Land Management, Interior.

ACTION: Notice of Reinstatement of Terminated Oil and Gas Lease.

SUMMARY: Pursuant to the provisions of 43 CFR 3108.2-3(b)(2), Apache Corporation timely filed a petition for reinstatement of oil and gas lease OKNM 112970 for lands in Roger Mills County, Oklahoma, and was accompanied by all required rentals and royalties accruing from January 1, 2006, the date of termination.

FOR FURTHER INFORMATION CONTACT: Becky C. Olivas, BLM, New Mexico State Office, (505) 438-7609.

SUPPLEMENTARY INFORMATION: No valid lease has been affecting the lands. The lessee has agreed to new lease terms for rentals and royalties at rates of $10.00 per acre or fraction thereof and 16⅔ percent, respectively. The lessee has paid the required $500.00 administrative fee and has reimbursed the Bureau of Land Management for the cost of this Federal Register notice. The lessee has met all the requirements for reinstatement of the lease as set out in Sections 31(d) and (e) of the Mineral Lease Act of 1920 (30 U.S.C. 188), and the Bureau of Land Management is proposing to reinstate the lease effective January 1, 2006, subject to the original terms and conditions of the leases and the increased rentals and royalty rates cited above.

Dated: May 23, 2006.
Becky C. Olivas,
Land Law Examiner, Fluids Adjudication Team 1.

[FR Doc. E6-8440 Filed 5-31-06; 8:45 am]

BILLING CODE 4310-FB-P